OFFICE OF PERSONNEL MANAGEMENT

Submission for Review: OPM Form 1203-FX, Occupational Questionnaire, 3206-0040

AGENCY: U.S. Office of Personnel Management.

ACTION: 30-Day notice and request for comments.

SUMMARY: The Automated Services Management Group, Office of Personnel Management (OPM) offers the general public and other Federal agencies the opportunity to comment on an existing information collection request (ICR) 3206-0040, Occupational Questionnaire, OPM Form 1203-FX. As required by the Paperwork Reduction Act of 1995, (Pub. L. 104-13, 44 U.S.C. chapter 35) as amended by the Clinger-Cohen Act (Pub. L. 104-106), OPM is soliciting comments for this collection. The information collection was previously published in the Federal Register on September 18, 2009 at Volume 74 FR 47981 allowing for a 60-day public comment period. We received 3 comments and responded to them. The purpose of this notice is to allow an additional 30 days for public comments. The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until January 19, 2010. This process is conducted in accordance with 5 CFR 1320.1.

ADDRESSES: Interested persons are invited to submit written comments on the proposed information collection to the Office of Information and Regulatory Affairs, Office of Management Budget, 725 17th Street, NW., Washington, DC 20503, Attention: Desk Officer for the Office of Personnel Management or sent via electronic mail to oira_submission@omb.eop.gov or faxed to (202) 395-6974.

FOR FURTHER INFORMATION CONTACT: A copy of this ICR, with applicable supporting documentation, may be obtained by contacting the Office of Information and Regulatory Affairs, Office of Management Budget, 725 17th Street, NW., Washington, DC 20503, Attention: Desk Officer for the Office of Personnel Management or sent via electronic mail to oira_submission@omb.eop.gov or faxed to (202) 395-6974.

SUPPLEMENTARY INFORMATION: The Occupational Questionnaire is an optical scan form designed to collect applicant information and qualifications in a format suitable for automated processing and to create applicant records for an automated examining system. The 1203 series was commonly referred to as the “Qualifications and Availability Form C.” OPM has re-titled the series as “Occupational Questionnaire” to fit a more generic need. OPM uses this form to carry out its responsibility for open competitive examining for admission to the competitive service in accordance with section 3304, of title 5, United States Code.

Analysis

Agency: Automated Systems Management Group, Office of Personnel Management.

Title: Occupational Questionnaire, OPM Form 1203-FX.

OMB Number: 3260-0040.

Frequency: On occasion.

Affected Public: Individuals or households.

Number of Respondents: 3,484,764.

Estimated Time per Respondent: 45 minutes.

Total Burden Hours: 2,613,573.

Total Burden Cost (capital/startup): None.

Total Burden Cost (operating/maintaining): $468,280.

John Berry,
Director, U.S. Office of Personnel Management.

[FR Doc. E9-30167 Filed 12-17-09; 8:45 am]

BILLING CODE 6325-38-P